DEPARTMENT OF ENERGY

Federal Energy Regulatory Commission

[Project No. 4362-007]

Inman Mills; Notice of Termination of License (Minor Project) by Implied Surrender and Soliciting Comments, Protests and Motions To Intervene

Take notice that the following hydroelectric proceeding has been initiated by the Commission:

a. Type of Proceeding: Termination of license by implied surrender.

b. Project No.: 4362-007.

c. Date Initiated: April 7, 2015.

d. Licensee: Inman Mills.

e. Name and Location of Project: The Riverdale Hydroelectric Project, located on the Enoree River near Enoree, in Spartanburg and Laurens counties, South Carolina.

f. Filed Pursuant to: Standard Article 16.

g. Licensee Contact Information: Mr. Keith Woods, Corporate Technical Director Inman Mills, P.O. Box 207, Inman, SC 29439, (864) 472-2121.

h. FERC Contact: M. Joseph Fayyad, (202) 502-8759, mo.fayyad@ferc.gov.

i. Deadline for filing comments and protests is 30 days from the issuance date of this notice by the Commission. Please file your submittal electronically via the Internet (eFiling) in lieu of paper. Please refer to the instructions on the Commission's Web site under http://www.ferc.gov/docs-filing/efiling.asp and filing instructions in the Commission's Regulations at 18 CFR 385.2001(a)(1)(iii). To assist you with eFilings you should refer to the submission guidelines document at http://www.ferc.gov/help/submission-guide/user-guide.pdf. In addition, certain filing requirements have statutory or regulatory formatting and other instructions. You should refer to a list of these “qualified documents” at http://www.ferc.gov/docs-filing/efiling/filing.pdf. You must include your name and contact information at the end of your comments. Please include the project number (4362-007) on any documents or motions filed. The Commission strongly encourages electronic filings; otherwise, you should submit an original and seven copies of any submittal to the following address: The Secretary, Federal Energy Regulatory Commission, Mail Code: DHAC, PJ-12, 888 First Street NE., Washington, DC 20426.

j. Description of Project Facilities: (1) A reinforced concrete dam approximately 14 feet high and 425 feet long; (2) a 9-foot-diameter penstock, approximately 110 feet long; (3) a powerhouse containing one generating Unit with a capacity of 1,240 kW; (4) a reservoir with a surface area of 9 acres at a normal pool elevation of 512 feet, and a gross storage capacity of 22 acre-feet; and (5) appurtenant facilities.

k. Description of Proceeding: The licensee is in violation of Article 16 of its license, which was granted September 29, 1982 (20 FERC ¶ 62,586). Article 16 states in part: If the Licensee shall abandon or discontinue good faith operation of the project or refuse or neglect to comply with the terms of the license and the lawful orders of the Commission, the Commission will deem it to be the intent of the Licensee to surrender the license.

Commission records show that the project has not been operational since January 2001 and the licensee (Inman Mills) has failed to retain sufficient rights to operate the project. Inman Mills transferred the property rights to another party without securing an effective transfer approval from the Commission, which is a continuing violation of standard article 5 of the license. The current project license expired on August 31, 2012, and the project remains authorized under an annual license. Inman Mills failed to file a notice of intent to seek a subsequent license, which the Commission deemed as notice that Inman Mills does not intend to file an application for subsequent license. Then on August 31, 2010, Lockhart Power Company, Inc., filed a license application for the project; however, the application was withdrawn on October 1, 2014. On November 26, 2014, staff sent the licensee a letter pursuant to the Commission's regulations at 18 CFR 16.26(b), requiring the licensee to file a schedule for the filing of a surrender application for the project license for Commission approval within 90 days from the date of the letter. The letter required that any application must be filed in accordance with 18 CFR 16.8 and Part 6 of the Commission's regulations. The letter stated that if no response is filed, the Commission will take action to terminate license by implied surrender. On February 3, 2015, the licensee filed a response but failed to file a surrender application in accordance with18 CFR 16.8 and Part 6 of the Commission's regulations.

l. This notice is available for review and reproduction at the Commission in the Public Reference Room, Room 2A, 888 First Street NE., Washington, DC 20426. The filing may also be viewed on the Commission's Web site at http://www.ferc.gov/docs-filing/elibrary.asp. Enter the Docket number (P-4362-007) excluding the last three digits in the docket number field to access the notice. You may also register online at http://www.ferc.gov/docs-filing/esubscription.asp to be notified via email of new filings and issuances related to this or other pending projects. For assistance, call toll-free 1-866-208-3676 or email FERCOnlineSupport@ferc.gov. For TTY, call (202) 502-8659.

m. Individuals desiring to be included on the Commission's mailing list should so indicate by writing to the Secretary of the Commission.

n. Comments and Protests—Anyone may submit comments or protests in accordance with the requirements of Rules of Practice and Procedure, 18 CFR 385.210, .211 and .214. In determining the appropriate action to take, the Commission will consider all protests or other comments filed, but only those who file a motion to intervene in accordance with the Commission's Rules may become a party to the proceeding. Any protests must be received on or before the specified deadline date for the particular proceeding.

o. Filing and Service of Responsive Documents—Any filing must (1) bear in all capital letters the title “COMMENTS, “PROTEST”, or “MOTION TO INTERVENE” as applicable; (2) set forth in the heading the project number of the proceeding to which the filing responds; (3) furnish the name, address, and telephone number of the person commenting or protesting; and (4) otherwise comply with the requirements of 18 CFR 385.2001 through 385.2005. All comments or protests must set forth their evidentiary basis. All comments, protests, or motions to intervene should relate to project works which are the subject of the termination of license. A copy of any protest or motion to intervene must be served upon each representative of the licensee specified in item “g” above. A copy of all other filings in reference to this notice must be accompanied by proof of service on all persons listed in the service list prepared by the Commission in this proceeding, in accordance with 18 CFR 4.34(b) and 385.2010.

p. Agency Comments—Federal, state, and local agencies are invited to file comments on the described proceeding. If any agency does not file comments within the time specified for filing comments, it will be presumed to have no comments.

Dated: April 7, 2015.
Kimberly D. Bose,
Secretary.

[FR Doc. 2015-08559 Filed 4-14-15; 8:45 am]

BILLING CODE 6717-01-P